DEPARTMENT OF HOMELAND SECURITY

Federal Emergency Management Agency

[Docket ID: FEMA-2013-0032; OMB No. 1660-New]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the collection of qualitative data regarding preparedness message framing. The goal of this qualitative research is to gain insights on how best to frame preparedness messaging to effectively encourage and motivate the public to prepare themselves and their families for a disaster.

DATES: Comments must be submitted on or before October 28, 2013.

ADDRESSES: To avoid duplicate submissions to the docket, please use only one of the following means to submit comments:

(1) Online. Submit comments at www.regulations.gov under Docket ID FEMA-2013-0032. Follow the instructions for submitting comments.

(2) Mail. Submit written comments to Docket Manager, Office of Chief Counsel, DHS/FEMA, 500 C Street SW., Room 840, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Kathryn Pilman, Program Specialist, Individual and Community Preparedness Division, 202-786-0181. You may contact the Records Management Division for copies of the proposed collection of information at facsimile number (202) 646-3347 or email address: FEMA-Information-Collections-Management@dhs.gov.

SUPPLEMENTARY INFORMATION: Federal Emergency Management Agency's (FEMA) Citizen Corps program acts under the authority of Executive Order No. 13254, “Establishing the USA Freedom Corps.” Citizen Corps' mission is to bring together government and community leaders to involve citizens in all-hazard emergency preparedness and resilience. FEMA's Individual and Community Preparedness Division (ICPD) directs this effort to support the policy to foster a culture of responsibility, service and citizenship. FEMA will use this collection to ensure the effectiveness and value of awareness and education campaigns, disaster messaging and other associated outreach efforts.

Collection of Information

Title: Preparedness Message Framing Research.

Type of Information Collection: New information collection.

FEMA Forms: 008-0-17, Focus Group Moderator's Guide; FEMA Form 008-0-18, Recruit/Screener Phone Script; and FEMA Form 008-0-19, Post Event Participant Survey.

Abstract: FEMA's Individual and Community Preparedness Division will engage in qualitative research involving the review of disaster preparedness message frames for the purpose of determining the most effective means for presenting disaster preparedness messages. Multiple frames will be used to probe: (1) Overall Understanding of the terms used in preparedness messaging (Disaster; Preparedness; Emergency); (2) General concern and attitudes (Area specific hazards and risks; Concern or worry about specific hazards and risks; plans for taking steps); (3) Reactions to hazard specific message concepts; and (4) Effective channels for communication.). This research will provide insights on how to improve existing disaster preparedness messages to encourage the public to engage in preparedness behaviors.

Affected Public: Individuals and households.

Number of Respondents: 3,840.

Number of Responses: 3,840.

Estimated Total Annual Burden Hours: 940 hours.

Estimated Cost: There are no capital or start-up costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: August 20, 2103.
Charlene D. Myrthil
Director, Records Management Division, Mission Support Bureau, Federal Emergency Management Agency, Department of Homeland Security.

[FR Doc. 2013-21077 Filed 8-28-13; 8:45 am]

BILLING CODE 9111-27-P